DEPARTMENT OF LABOR

Employment and Training Administration

[TA-W-71,136]

Chrysler Group LLC, Formerly Known as Chrysler LLC, Conner Avenue Assembly Plant, Including On-Site Leased Workers From Aerotek, CDI, Syncreon and Caravan Knight Facilities Management LLC; Detriot, MI; Amended Certification Regarding Eligibility To Apply for Worker Adjustment Assistance

In accordance with Section 223 of the Trade Act of 1974, as amended (“Act”), 19 U.S.C. 2273, the Department of Labor issued a Certification of Eligibility to Apply for Worker Adjustment Assistance and Alternative Trade Adjustment on September 17th, 2009, applicable to workers of Chrysler Group, LLC, formerly known as Chrysler, LLC, Conner Avenue Assembly Plant, Detroit, Michigan. The notice was published in the Federal Register on November 5, 2009 (74 FR 57337).

At the request of the State Agency, the Department reviewed the certification for workers of the subject firm. The workers are engaged in the production of automotive components, a substantial portion of which are shipped to an affiliated plant where they are used in the assembly of automotive vehicles.

New information shows that workers leased from Caravan Knight Facilities Management LLC were employed on-site at the Detroit, Michigan location of Chrysler Group, LLC, formerly known as Chrysler, LLC, Conner Avenue Assembly Plant. The Department has determined that these workers were sufficiently under the control of the subject firm to be considered leased workers.

Based on these findings, the Department is amending this certification to include workers leased from Caravan Knight Facilities Management, LLC, working on-site at the Detroit, Michigan location of Chrysler Group, LLC, formerly known as Chrysler, LLC, Conner Avenue Assembly Plant.

The amended notice applicable to TA-W-71,136 is hereby issued as follows:

All workers of Chrysler Group, LLC, formerly known as Chrysler, LLC, Conner Avenue Assembly Plant, including on-site leased workers from Aerotek, CDI, Syncreon and Caravan Knight Facilities Management LLC, Detroit, Michigan, who became totally or partially separated from employment on or after May 27, 2008, through September 17, 2011, are eligible to apply for alternative trade adjustment assistance under Section 246 of Trade Act of 1974.

Signed at Washington, DC, this 4th day of March 2010.
Richard Church,
Certifying Officer, Division of Trade Adjustment Assistance.

[FR Doc. 2010-5329 Filed 3-11-10; 8:45 am]

BILLING CODE 4510-FN-P